DEPARTMENT OF AGRICULTURE

Rural Utilities Service

[Docket #RUS-25-ELECTRIC-0001]

Notice of Availability of a Record of Decision Regarding Central Electric Power Cooperative, Inc. Financial Assistance

AGENCY: Rural Utilities Service, USDA.

ACTION: Notice of availability of a Record of Decision.

SUMMARY: Notice is hereby given that the Rural Utilities Service (RUS), an agency within the Department of Agriculture (USDA), has issued a Record of Decision (ROD) to meet its responsibilities in accordance with the National Environmental Policy Act of 1969 (NEPA), Council on Environmental Quality (CEQ) regulations for implementing the procedural provisions of NEPA, RUS Environmental Policies and Procedures, and other applicable environmental requirements related to providing financial assistance for Central Electric Power Cooperative, Inc. (Central Electric or the Applicant) proposed McClellanville 115 kilovolt (kV) transmission line (Project) in South Carolina. The Administrator of RUS has signed the ROD, which was effective upon signing. This ROD concludes RUS environmental review process in accordance with NEPA and RUS, Environmental Policies and Procedures. The ultimate decision as to loan approval depends on the conclusion of the environmental review process plus financial and engineering analyses. Issuance of the ROD allows these reviews to proceed. The ROD is not a decision on the Central Electric's loan application and is not an approval of the expenditure of federal funds.

DATES: The Administrator of the Rural Utilities Service signed the Record of Decision on June 13, 2025.

ADDRESSES: The ROD is available on the RUS website at: https://www.rd.usda.gov/resources/environmental-studies/impact-statement/mcclellanville-115kv-transmission-line-berkeley-charleston-and-georgetown-counties-sc.

FOR FURTHER INFORMATION CONTACT: For further information, or to request copies of the ROD, contact Suzanne Kopich, Environmental Protection Specialist, USDA, Rural Utilities Service, 1400 Independence Ave., SW, Mail Stop 1570, Washington, DC 20250, by phone at 202-961-8514, or email to: mcclellanvilleEIS@usda.gov

SUPPLEMENTARY INFORMATION: The project proponent and USDA applicant, Central Electric, is a not-for-profit electric generation and transmission cooperative that is the wholesale power supplier to its member-owners, South Carolina's 20 retail electric cooperatives that includes Berkeley Electric. Organized in 1948, Central Electric designs and builds transmission lines that connect the state's bulk transmission system (the coordinated and integrated Central Electric/South Carolina Public Service Authority [Santee Cooper] system) and the member-cooperative system substations. Central Electric, a South Carolina (SC) transmission cooperative, proposes to construct and maintain a new 115-kilovolt (kV) transmission line between the existing Jamestown substation and a new Berkeley Electric Cooperative, Inc. (Berkeley Electric) McClellanville Substation near the town of McClellanville, SC. The preferred transmission line route is referred to as the Jamestown corridor. The new transmission line would improve system reliability in the McClellanville Service Area, including reducing the number and duration of power outages that occur. The current level of system capacity cannot readily accommodate existing load demand nor future load growth in the McClellanville area. Studies of system reliability (studies included in the Environmental Impact Statement (EIS)) indicate that a new 115-kV transmission line and associated substation is needed to serve the long-term needs of this area of coastal South Carolina by increasing capacity to distribute electricity and enhance the reliability of the delivery system.

RUS is authorized under the Rural Electrification Act of 1936, as amended (7 U.S.C. 901-918a.) to make loans and loan guarantees to finance the construction of electric distribution, transmission, and generation facilities, including system improvements and replacements required to furnish and improve electric service in rural areas, as well as demand-side management, electricity conservation programs, and on- and off-grid renewable electricity systems. Central Electric intends to request financial assistance from RUS for the Project. Along with other technical and financial considerations, completing the environmental review process is one of RUS's requirements in processing Central Electric's application.

RUS is the lead Federal agency, as defined at 40 CFR 1501.7 (2020), for the preparation of the final Environmental Impact Statement (FEIS). Cooperating agencies for this Project include the United States Army Corps of Engineers (USACE) and the United States Forest Service (USFS). The USACE will review the Applicant's permit application, as required by Section 404 under the Clean Water Act. The USFS has been involved in interagency coordination as a cooperating agency for the Project because 13.5 miles (58%) of the proposed transmission line would cross National Forest Service (NFS) lands managed by the Francis Marion National Forest. The USFS would need to issue a special use authorization for the Project to occupy NFS lands and will use the final EIS analysis in its decision- making process to either approve or disapprove the Applicant's request for a Special Use Permit (SUP).

RUS prepared a FEIS and published a notice of availability in the Federal Register on October 18, 2024, 89 FR 83833, to analyze the impacts of its respective Federal actions and the proposed Project in accordance with RUS Environmental Policies and Procedures (7 CFR part 1970).

RUS determined that its action regarding the proposed Project is an undertaking subject to review under Section 106 of the National Historic Preservation Act and its implementing regulation, “Protection of Historic Properties” (36 CFR part 800) and as part of its broad environmental review process, RUS must take into account the effect of the Project on historic properties. The National Historic Preservation Act (NHPA), Section 106 review is integrated with the NEPA review of cultural and historic resources in the FEIS in accordance with the guiding regulations of each law (40 CFR 1500-1508; 36 CFR part 800). Indian Tribes, including the Eastern Shawnee Tribe of Oklahoma, the Catawba Indian Nation, and Muscogee (Creek) Nation, and the town of McClellanville were invited to participate in the NHPA, Section 106 review process, attend the public scoping and Draft EIS meetings, and provide relevant information for inclusion in the EIS. Only the Catawba Indian Nation chose to become a consulting party, and in the end, they did not comment on the EIS.

There are two known cultural resources along the proposed transmission line: the NRHP-listed Old Georgetown Road and the NRHP-eligible Honey Hill Fire Tower; and several unevaluated archaeological sites. The Project will have a direct, visual impact on the Old Georgetown Road and Honey Hill Fire Tower. Mitigation for this impact will be determined through the Section 106 consultation process under the Programmatic Agreement (PA) for the McClellanville 115 kV Transmission Line Project. Once the project right of way has been finalized, additional cultural resource surveys and studies will be conducted to identify any additional historic sites and potential impacts. In coordinating Section 106 compliance, RUS has developed a project-specific PA among RUS, USFS, and the South Carolina State Historic Preservation Office. Any historic sites will be spanned and protected during construction when feasible, as identified in the PA. The PA will have provisions for the treatment of any post-review structure discoveries.

On May 29, 2014, RUS announced the issuance of a Draft EIS for the Project (79 FR 30805). A public meeting was held on June 3, 2014, at the St. James-Santee Elementary-Middle School in McClellanville to solicit comments on the Draft EIS. Based on public comments and because of updates to RUS environmental policies and procedures, as well as the publication of a revised FMNF Land Management Plan, RUS and Central Electric determined that a Supplemental Draft EIS (SDEIS) would be necessary to evaluate other reasonable corridors, including two options that would originate from the Belle Island Substation, as evaluated in the Draft EIS, and new options originating from the Jamestown Substation and Charity Substation. In 2017, because of comments received from agencies and the general public, Central Electric commissioned, at the request of RUS, an independent engineering study to evaluate and supplement the previously developed studies and assess the merit of the proposed alternatives based on need, impacts, and cost; and to offer additional insight and information that may be relevant to assessing each potential solution.

On August 30, 2019, RUS announced the availability of the SDEIS for the Project (84 FR 45720), which included new analysis of the Jamestown and Charity corridors and two of the original Belle Isle corridors (Options B and C). On September 17 and 19, 2019, RUS conducted public meetings at St. James-Santee Elementary-Middle School in McClellanville and at Jamestown Baptist Church Life Center, respectively.

Following the October 18, 2024 issuance of the FEIS, a total of three public comments were received and were all minor in content.All public comments associated with the FEIS have been taken into consideration and addressed in the ROD. Based on consideration of the environmental impacts of the Project and comments received throughout the Agency and public review process, RUS has determined that the Proposed Action as described above best meets the purpose and need for the Project. RUS finds that the evaluation of reasonable alternatives is consistent with NEPA and RUS Environmental Policies and Procedures. Details regarding RUS regulatory decision and compliance with applicable regulations are included in the ROD.

Christopher McLean,
Assistant Administrator, Rural Utilities Service, USDA Rural Development.

[FR Doc. 2025-12026 Filed 6-27-25; 8:45 am]

BILLING CODE 3410-15-P